DEPARTMENT OF THE INTERIOR

Bureau of Land Management

[OR-092-01-1430-EU: GP01-0246; OR 55430]

Realty Action; Direct Sale of Public Lands; Oregon

AGENCY: Bureau of Land Management, Interior.

ACTION: Notice of Realty Action—Direct Sale of Public Lands in Lane County, Oregon.

SUMMARY: The following land is suitable for direct sale under Sections 203 and 209 of the Federal Land Policy and Management Act of 1976, (43 U.S.C. 1713 and 1719), at no less than the appraised fair market value of $1500.00. The land will not be offered for sale until at least 60 days after publication of this notice:

Willamette Meridian, Oregon

T. 21 S., R. 3 W.

Sec. 2: Lots 5 and 8

Containing 1.72 acres

The above described land is hereby segregated from appropriation under the public land laws, including the mining laws, but not from sale under the above cited statute, for 270 days from the date of publication of this notice in the Federal Register or until title transfer is completed or the segregation is terminated by publication in the Federal Register, whichever occurs first.

This land is difficult and uneconomic to manage as part of the public lands and is not suitable for management by another Federal agency. No significant resource values will be affected by this disposal. The sale is consistent with BLM's planning for the land involved and the public interest will be served by the sale.

Purchasers must be U.S. citizens, 18 years of age or older, a state or state instrumentality authorized to hold property, or a corporation authorized to own real estate in the state in which the land is located.

The land is being offered to Amvesco, Inc., dba Western Pioneer Title Co., using the direct sale procedures authorized under 43 CFR 2711.3-3. Direct sale is appropriate since the land is part of a survey hiatus identified by cadastral survey in 1999 and has been inadvertently occupied and utilized for many years as a county road and portions of five residential yards pursuant to private deeds. Direct sale will resolve the title conflicts and unauthorized use while preserving the occupants' equity in the property.

The terms, conditions, and reservations applicable to the sale are as follows:

1. A right-of-way for ditches and canals will be reserved to the United States under 43 U.S.C. 945.

2. The mineral interests being offered for conveyance have no known mineral value. The acceptance of a direct sale offer will constitute an application for conveyance of the mineral estate in accordance with section 209 of the Federal Land Policy and Management Act. Direct purchasers must submit a nonrefundable $50.00 filing fee for the conveyance of the mineral estate upon request by the Bureau of Land Management.

3. Patent will be issued subject to all valid existing rights and reservations of record.

4. The sale will be subject to:

a. Such rights for public road purposes as Lane County, Oregon, or its successors in interest may have pursuant to right-of-way OR 55407. Act of October 21, 1976, 90 Stat. 2776, 43 U.S.C. 1761.

b. A requirement that the purchaser, at closing, grant an easement to the U.S. Department of Energy, Bonneville Power Administration, for an existing electric transmission line.

DATES: For a period of 45 days from the date of publication of this notice in the Federal Register, interested parties may submit comments to the Field Manager, South Valley Resource Area, Bureau of Land Management, at the address below. Objections will be reviewed by the Eugene District Manager who may sustain, vacate, or modify this realty action. In absence of any objections, this realty action will become the final determination of the Department of the Interior

ADDRESSES: Detailed information concerning the sale, including the reservations, sale procedures and conditions, form of the easement to be granted to the Bonneville Power Administration and planning and environmental documents, is available at the Eugene District Office, P.O. Box 10226 (2890 Chad Drive), Eugene, Oregon 97440.

FOR FURTHER INFORMATION CONTACT: Ronald Wold, Realty Specialist, Eugene District Office, at (541) 683-6403.

Dated: July 11, 2001.
Steven Calish,
Field Manager, South Valley Resource Area.

[FR Doc. 01-19672 Filed 8-6-01; 8:45 am]

BILLING CODE 4310-33-P